DEPARTMENT OF THE INTERIOR

Bureau of Land Management

[UT-921-1430-BX-026J; UTU-81100]

Notice of Application for Recordable Disclaimer of Interest in Public Highway Right-of-Way Established Pursuant to Revised Statute 2477 (43 U.S.C. 932, Repealed October 21, 1976), Weiss Highway, Juab County, UT

AGENCY: Bureau of Land Management (BLM), Interior.

ACTION: Notice of application.

SUMMARY: On January 14, 2004 the State of Utah and Juab County submitted an application for a recordable disclaimer of interest from the United States pursuant to Section 315 of the Federal Land Policy and Management Act of 1976, as amended (43 U.S.C 1745), the regulations contained in 43 CFR subpart 1864, and the April 9, 2003 Memorandum of Understanding Between the State of Utah and the Department of the Interior on State and County Road Acknowledgement. This recordable disclaimer of interest application, identified by BLM Serial Number UTU-81100, is for the Weiss Highway in Juab County, Utah. A recordable disclaimer of interest, if issued, will confirm the United States has no property interest in the identified public highway right-of-way. This Notice is intended to notify the public of the pending application and the State's and County's grounds for supporting it.

The Weiss Highway is a major east-west access route through Juab County, Utah. The highway is approximately 99 miles long and connects with U.S. Highway 6 at Jericho Junction in eastern Juab County and runs generally west to its intersection with the Callao-Trout Creek Road in the western part of the County. The highway passes through approximately 88½ miles of public lands administered by BLM. The highway also passes through 13 parcels of land administered by the State of Utah, School and Institutional Trust Lands Administration (aggregating approximately 10 miles) and three private land parcels (aggregating approximately ½ mile). The Weiss Highway is an improved (graded) highway with a native dirt/gravel travel surface throughout its entire length, with the exception of a paved segment approximately six miles long on the eastern end. The recordable disclaimer of interest application pertains only to the highway segments which pass through BLM administered public lands. Details of the application are provided in the SUPPLEMENTARY INFORMATION section below.

DATES: On or before April 9, 2004, all interested parties may submit comments on the State's and County's application as follows. Comments on the application should reference BLM Case File Serial Number UTU-81100. Public comment will be accepted if received by BLM or postmarked no later than 60 days following the date of publication of this notice. BLM will review all timely comments received on the application, and will address all relevant, substantive issues raised in the comments. A final decision on the merits of the application will not be made until at least 90 days has elapsed from the date of publication of this notice.

ADDRESSES: Interested parties and the public are encouraged to access the RS2477 Disclaimer Process public Web site at http://www.ut.blm.gov/rs2477 to review the application materials and provide comments on the application. For those without access to the public Web site, written comments may be provided to the Chief, Branch of Lands and Realty, BLM Utah State Office (UT-921), P.O. Box 45155, Salt Lake City, Utah 84145-0155.

FOR FURTHER INFORMATION CONTACT: Mike DeKeyrel, Realty Specialist, BLM Utah State Office Branch of Lands and Realty (UT-921) at the above address or Phone (801) 539-4105 and Fax (801) 539-4260.

SUPPLEMENTARY INFORMATION: On January 14, 2004, the State of Utah filed an application for a Recordable Disclaimer of Interest for the public highway right-of-way identified as Weiss Highway which passes through public lands administered by the Bureau of Land Management in Juab County. The State of Utah and Juab County assert that they hold a joint and undivided property interest in the Weiss Highway right-of-way as granted pursuant to the authority provided by Revised Statute 2477 (43 U.S.C. 932, repealed October 21, 1976) over public lands administered by the Bureau of Land Management. The State submitted the following information with the application in both paper copy and in electronic form (Compact Disk):

1. Narrative description of the location, characteristics and attributes of the Weiss Highway which have been summarized above. The claimed right-of-way width ranges from 40 to 60 feet.

2. Centerline description of the road based on Global Positioning System (GPS) data.

3. Detailed descriptions of the right-of-way on 17 identified segments passing through public lands including beginning and end points, surface type, and disturbed width. The application identifies the disturbed right-of-way width as 40 feet wide on eight segments (43.3 miles) and 60 feet wide on nine segments (45.4 miles).

4. Legal description by aliquot part (e.g., ¼¼ section) of the land parcels through which the road passes.

5. Maps showing location of the Weiss Highway and the location and dates of water diversion points and mining locations to which the highway provides access.

6. Aerial photography dated 1976 and 1990.

7. Signed and notarized affidavits by seven persons attesting to the road location; its establishment as a highway prior to October 21, 1976; familiarity with the road character and attributes including type of travel surface, disturbed width, associated improvements and ancillary features such as bridges, cattleguards, etc.; current public usage of the road; the historic and current purposes for which the road is used; and evidence of periodic maintenance.

8. Recent photographs of the highway at various points along its alignment.

The State of Utah did not identify any known adverse claimants of the identified public highway rights-of-way.

If approved, the recordable disclaimer document would confirm that the United States has no property interest in the public highway right-of-way as it is identified in the official records of the Bureau of Land Management as of the date of the disclaimer document.

Comments, including names and street addresses of commenters, will be available for public review at the Utah State Office (see address above), during regular business hours 8 a.m. to 4 p.m. local time, Monday through Friday, except holidays. Individual respondents may request confidentiality. If you wish to hold your name or address from public review or from disclosure under the Freedom of Information Act, you must state this prominently at the beginning of your comments. Such requests will be honored to the extent allowed by law. All submissions from organizations or business will be made available for public inspection in their entirety. Anonymous comments will not be accepted.

Dated: January 27, 2004.
Don Banks,
Acting State Director.

[FR Doc. 04-2651 Filed 2-6-04; 8:45 am]

BILLING CODE 4310-DQ-P